DEPARTMENT OF HEALTH AND HUMAN SERVICES

Centers for Disease Control and Prevention

[60Day-20-20QN; Docket No. CDC-2020-0085]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on “Availability, Use, and Public Health Impact of Emergency Supply Kits among Disaster-Affected Populations.” The goal of this study is to determine the efficacy and public health impact of emergency supply kits among disaster-affected populations to understand how emergency supply kits are used during and after a natural disaster, if public health outcomes are associated with access to emergency supply kits, and what the most useful items to include in an emergency supply kit are across different types of disasters.

DATES: Written comments must be received on or before October 27, 2020.

ADDRESSES: You may submit comments, identified by Docket No. CDC-2020-0085 by any of the following methods:

• Federal eRulemaking Portal: Regulations.gov. Follow the instructions for submitting comments.

• Mail: Jeffrey Zirger, Information Collection Review Office, Centers for Disease Control and Prevention, 1600 Clifton Road NE, MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Jeffry Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Availability, Use, and Public Health Impact of Emergency Supply Kits Among Disaster-Affected Populations—New—National Center for Environmental Health (NCEH), Centers for Disease Control and Prevention (CDC)

Background and Brief Description

The National Center for Environmental Health (NCEH) is requesting a new information collection request (ICR) with two years of approval. An all-of-society approach to disaster risk reduction emphasizes inclusion and engagement in preparedness activities. A common recommendation is to promote household preparedness through the preparation of an emergency supply kit that can be used to shelter-in-place or during evacuation. Lack of household preparedness is a public health concern, especially in medically frail populations, because it consumes first responders' time, taking them away from relief and recovery efforts, and can easily deplete community health resources. The Federal Emergency Management Agency (FEMA) states that individuals or households are prepared for a disaster if they have thought about and planned for the types of disaster for which they are at most risk, have developed a family communication and evacuation plan in the event of a disaster, and have assembled a complete disaster (emergency) supply kit. However, the prevalence of emergency supply kits across households in the United States ranges considerably from a community-level low of 10% to a regional high of 68%. This lack and variation of emergency supply kits across households makes household disaster preparedness a public health concern.

Self-sufficiency (defined as the ability to shelter-in-place without needing to leave your home or call for outside assistance for ~3 days following a disaster) can help reduce the demands placed on first responders during critical times, which has downstream public health impacts. Among persons with an existing physical or mental health condition at the time of the disaster, having an adequate supply of prescription and over-the-counter medications and medical supplies allows people to maintain treatment and prevent worsening or exacerbation of their existing condition or illness. It also can reduce their need for emergency medical services following a disaster. The FEMA definition of an emergency supply kit is one that can sustain each member of a household with food, water, and medication for up to three days. However, there are several knowledge gaps and challenges related to emergency supply kit use and effectiveness, including whether the current recommendations are adequate or need expansion. We identified the following gaps:

• Lack of consistency for what supplies to include in an emergency supply kit: While the public can access information on what contents are likely important to include in emergency supply kits, there is a lack of information as to whether there is a standard set of supplies that is consistently needed across disaster types

• Lack of a standard tool for evaluation of emergency supply kit use and effectiveness

• Lack of information on how emergency supply kit items are used during or following disasters: Currently we lack detailed information on how households use emergency supply kit items during or following disasters and what, if any, are barriers to their use

• Lack of information on effectiveness of emergency supply kits in preventing adverse outcomes: To our knowledge, there is no information on whether the use of emergency supply items prevents adverse health outcomes. Among individuals with health conditions, it remains unclear whether preparing an emergency supply kit with adequate medications and medical supplies prevents the worsening of conditions or the need for emergency medical services

• Lack of data to support emergency supply kit recommendations: It is unclear whether having essential supplies improves self-sufficiency and lessens the need for outside assistance

This general lack of research on the efficacy and use of emergency supply kits impedes our ability to make data-driven recommendations regarding emergency supply kit promotion. The cross-sectional disaster survey and focus group(s) on the public's knowledge, preparedness, and use of emergency supply kits will identify and inform public health officials about the most useful items to include in an emergency supply kit, ideally across two different types of disasters. Data collection is anticipated to be between September 2020 and April 2022, depending upon disaster occurrence. Parameters for site selection include a major or state-level disaster declaration for a natural disaster that affects a mid- to high-density area (e.g., population of 100,000 people) within the United States.

Survey participants will be selected via address-based sampling in the defined geographic area impacted by the disaster and given the choice to complete the survey via paper (i.e., Teleform) or online via a web-based instrument. Survey participants will also be recruited using an existing, nonprobability web panel and be directed to the online, web-based instrument to create a larger, more cost-effective dataset. Focus group participants will be randomly selected among survey respondents and/or recruited via targeted social media (e.g., Facebook, Craigslist) to provide context and enhancement to the survey.

The estimated annualized burden is 464 hours. The estimated burden is based on conducting the survey in two sites, taking 15-minutes per respondent via the web or 45 minutes via paper survey, and up to two focus groups in each site taking approximately 120 minutes. There is no cost to respondents other than their time.

Estimated Annualized Burden Hours
Type of respondent | Form name | Number of respondents | Number of responses per respondent | Average burden per response (in hours) | Total annualized burden (in hours)
General Public Household Member | Web Survey | 667 | 1 | 15/60 | 166
| Paper Survey | 333 | 1 | 45/60 | 250
| Focus Group | 24 | 1 | 120/60 | 48
Total |  |  |  |  | 464

Jeffrey M. Zirger,
Lead, Information Collection Review Office, Office of Scientific Integrity, Office of Science, Centers for Disease Control and Prevention.

[FR Doc. 2020-18996 Filed 8-27-20; 8:45 am]

BILLING CODE 4163-18-P